PATENT AND TRADEMARK OFFICE

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Deposit of Biological Materials.

Form Number(s): N/A.

Agency Approval Number: 0651-0022.

Type of Request: Extension of a currently approved collection.

Burden: 3,501 hours annually.

Number of Respondents: 3,500 responses per year. The USPTO expects that 3,500 patent applications on inventions dealing with deposits of biological materials will be filed each year. It is estimated by the USPTO that one depository will seek recognition every four years, or 0.25 depositories will seek recognition annually.

Avg. Hours Per Response: The USPTO estimates that it takes an average of one (1) hour for the average patent applicant respondent to collect and submit the necessary deposit information to the USPTO. The USPTO estimates that it will take the average depository seeking approval to store biological material an average of 15 minutes (.25 hours) to gather and submit the necessary approval information to the USPTO.

Needs and Uses: Information on the deposit of biological materials in depositories is required for (a) the USPTO determination of compliance with 35 U.S.C. 2(b)(2), 35 U.S.C. 112, and 37 CFR Ch. 1, Subpart G, 1.801-1.809, where inventions sought to be patented rely on biological material subject to the deposit requirement, including notification to the interested public on where to obtain samples of deposits; and (b) in compliance with 37 CFR Ch. 1, Subpart G, 1.803 to demonstrate that the depositories are qualified to store and test the biological material submitted to them under patent applications. This information is used by the USPTO to determine whether or not the applicant has met the requirements of the patent regulations. In addition, the USPTO uses this information to determine the suitability of a respondent depository based upon administrative and technical competence, and the depository's agreement to comply with the requirements set forth by the USPTO. There are no forms associated with this collection of information.

Affected Public: Individuals or households, businesses or other for-profit, not-for-profit institutions, and the Federal Government.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, (703) 308-7400, U.S. Patent and Trademark Office, P.O. Box 1450, Alexandria, VA 22313, Attn: CPK 3 Suite 310, or by e-mail at susan.brown@uspto.gov.

Written comments and recommendations for the proposed information collection should be sent on or before February 23, 2004 to David Rostker, OMB Desk Officer, Room 10202, New Executive Office Building, Washington, DC 20503.

Dated: January 16, 2004.
Susan K. Brown,
Records Officer, USPTO, Office of the Chief Information Officer, Office of Data Architecture and Services, Data Administration Division.

[FR Doc. 04-1475 Filed 1-22-04; 8:45 am]

BILLING CODE 3510-16-P